DEPARTMENT OF THE INTERIOR

Fish and Wildlife Service

Notice of Scoping Meetings and Intent To Prepare an Environmental Assessment for the Proposed Designation of an Experimental Population of Northern Aplomado Falcon

AGENCY: Fish and Wildlife Service, Interior.

ACTION: Notice of intent.

SUMMARY: We, the Fish and Wildlife Service (Service), are providing this notice to advise the public that a draft environmental assessment will be prepared, pursuant to the National Environmental Policy Act (NEPA) of 1969, as amended (42 U.S.C. 432 et seq.), in conjunction with a proposed rule to establish, under section 10(j) of the Endangered Species Act of 1973, as amended (Act), an experimental population of northern aplomado falcon (Falco femoralis septentrionalis) in New Mexico and Arizona. We will hold five public informational sessions and scoping meetings (see DATES and ADDRESSES sections).

Through this notice and the public scoping meetings, we are seeking comments or suggestions from the public, other concerned governmental agencies, tribes, the scientific community, industry, or any other interested parties concerning the scope of the environmental analysis, including the alternatives that should be analyzed.

DATES: Comments may be submitted directly to the Service (see ADDRESSES section) by February 11, 2003, or at any of the five scoping meetings to be held in February 2003. Meetings will include an informational session and a subsequent scoping meeting.

We will hold public informational sessions and scoping meetings at the following dates and times:

1. February 3, 2003

Douglas, AZ

Informational session: 5:30 p.m.

Scoping meeting: 7 p.m.

2. February 4, 2003

Deming, NM

Informational session: 5:30 p.m.

Scoping meeting: 7 p.m.

3. February 5, 2003:

Alamogordo, NM

Informational session: 5:30 p.m.

Scoping meeting: 7 p.m.

4. February 6, 2003

Carlsbad, NM

Informational session: 5:30 p.m.

Scoping meeting: 7:30 p.m.

5. February 11, 2003

Socorro, NM

Informational session: 5:30 p.m.

Scoping meeting: 7 p.m.

ADDRESSES:

Meetings

The public informational sessions and scoping meetings will be held at the following locations:

1. Douglas, AZ: Cochise College-Little Theatre, 4190 West State Highway 80; (520) 417-4143.

2. Deming, NM: Deming High School Auditorium, 1100 S. Nickel; (505) 546-8126.

3. Alamogordo, NM: Alamogordo Civic Center, 800 East 1st Street; (505) 439-4142.

4. Carlsbad, NM: New Mexico State University at Carlsbad-Instructional Building, Room 153, 1500 University Drive; (505) 234-9444.

5. Socorro, NM: New Mexico Tech-Main Auditorium, Macey Center, 801 Leroy Place; (505) 835-5342.

Information, comments, or questions related to preparation of the draft environmental assessment and the NEPA process should be submitted to Joy Nicholopoulos, Field Supervisor, U.S. Fish and Wildlife Service, New Mexico Ecological Services Field Office, 2105 Osuna NE, Albuquerque, New Mexico, 87113. Written comments may also be sent by facsimile to (505) 346-2542 or by e-mail to R2FWE_AL@fws.gov. All comments, including names and addresses, will become part of the administrative record and may be released.

FOR FURTHER INFORMATION CONTACT: Questions regarding the scoping process, preparation of the draft environmental assessment, or the development of a proposed rule designating an experimental population may be directed to Carrie Chalcraft at telephone number (505) 346-2525.

SUPPLEMENTARY INFORMATION:

Background

The aplomado falcon (Falco femoralis) is a widespread but sparsely distributed species through the Americas. Ranging from near the Mexican border south to Argentina, the aplomado falcon is a fast-flying predator that feeds upon medium-sized birds, insects, rodents, bats, and reptiles; pairs often hunt cooperatively. The northern subspecies (F.f. septentrionalis) was widespread throughout southwestern grasslands prior to the 1930s (Hector 1981, 2000). It was regarded as fairly common throughout the humid coastal savannas of Texas and Tamaulipas and the drier interior grasslands. Numerous egg sets were collected in southern Texas between 1888 and 1915 (Hector 1981).

Populations of the northern aplomado falcon began to decline during the first half of the twentieth century. Prior to reintroduction efforts in Texas, the last known breeding of this species within the United States occurred near Deming, New Mexico, in 1952. Breeding pairs became established in Texas once again in 1995, as a result of reintroduction efforts. There have been no verified sightings of northern aplomado falcons in Arizona since 1940 (Philips et al. 1964). Sightings of northern aplomado falcons have continued in New Mexico since the 1950s, but with only a handful of unconfirmed sightings per decade from the 1970s and 1980s despite many searches by ornithologists. The frequency of sightings ranged from 1 to 6 confirmed sightings per year throughout the 1990s. These sightings were followed by an unsuccessful nesting attempt in New Mexico in 2001, and the successful fledging of 3 nestlings from a nest in 2002.

There remains some debate concerning the exact cause of the decline of the northern aplomado falcon. Hypotheses implicating habitat loss, pesticide use, climatic change, egg and skin collecting, disease, and others have been advanced. We may therefore never fully understand the chain of events that led to the virtual extirpation of this species throughout the northernmost portion of its range (Cade et al. 1991). Unquestionably, grassland savannas in the southwestern United States underwent a substantial physical change during the decline of the northern aplomado falcon. Naturally occurring range fires maintained the humid grasslands of coastal Texas and Tamaulipas, once known as the “Wild Horse Prairie.” By World War II much of that prairie had been tilled into crops, and, with the control of range fires, what prairie remained soon became overgrown with brush species such as Honey Mesquite (Prospis glandulosa), Blackbrush Acacia (Acacia rigidula), Huisache (Acacia smallii), and Live Oak (Quercus virginiana) (Bogusch 1952). Brush encroachment may have increased the density of the great-horned owl (Bubo virginianus), a principal predator of falcons. Already greatly reduced in number and isolated through habitat loss, the remaining falcons may have been eliminated by the widespread use of organochlorines in agriculture (Kiff et al. 1980).

The decline of the northern aplomado falcon in the drier grasslands of west Texas, New Mexico, and Arizona may have resulted from different causes. Grasslands then were substantially altered both by farming and by intense overgrazing that reached its peak during 1870-1890 (Hastings and Turner 1965). The latter is believed to have reduced the diversity of the native short grass prairie. In time, these grasslands likely became less productive for the bird species upon which falcons preyed.

We listed the northern aplomado falcon as an endangered species in 1986 and published a Recovery Plan in 1990. As of September 2002, at least 37 pairs of falcons have become established in Texas as a result of release efforts. Monitoring efforts in northern Mexico indicate a population of 30-35 naturally occurring pairs currently exists in northern Chihuahua.

An active release effort is currently ongoing in both south and west Texas. The Peregrine Fund, a nonprofit, nongovernmental conservation organization, began recovery efforts during 1978-1988 when 25 young falcons were collected from nests in Mexico to establish a captive breeding program. The Peregrine Fund conducted a pilot release project during 1985-1989, and restoration began on a larger scale in 1993 with modified hacking procedures developed from Peregrine Falcon reintroduction. Although captive propagation of this species has been challenging, The Peregrine Fund has released 813 captive-bred falcons into Texas by the “hacking method.” As of spring 2002, 37 established pairs have successfully fledged more than 92 young in a region where this species had been absent for over 50 years. Releases are being conducted on private property under a Safe Harbor Agreement enrolling 1.4 million acres in south and west Texas.

Experimental Populations

We are committed to the long-term recovery of the northern aplomado falcon (Falco femoralis septentrionalis) in accordance with the recommendations of the 1990 recovery plan for this species. One of the primary goals of the Northern Aplomado Falcon Recovery Plan is to “Reestablish the northern aplomado falcon in the U.S. and Mexico.” Use of our authorities under section 10(j) of the Act (described below) may be a useful tool to achieve this recovery goal in Arizona and New Mexico. The purpose of this scoping process is to aid the development of an environmental assessment by collecting comments on this alternative as well as developing other alternatives that are consistent with the species' Recovery Plan.

Congress made significant changes to the Act in 1982 with addition of section 10(j), which provides for the designation of specific reintroduced populations of listed species as “experimental populations.” Previously, we had authority to reintroduce populations into unoccupied portions of a listed species' historical range when doing so would foster the conservation and recovery of the species. However, local citizens often opposed these reintroductions because they were concerned about placement of restrictions and prohibitions on Federal and private activities. Under section 10(j), the Secretary of the Department of the Interior can designate reintroduced populations established outside the species' current range, but within its historical range, as “experimental.” On the basis of the best available information, we must determine whether an experimental population is “essential” or “nonessential” to the continued existence of the species. Regulatory restrictions are considerably reduced under a Nonessential Experimental Population (NEP) designation.

Under the Act, species listed as endangered or threatened are afforded protection primarily through the prohibitions of section 9 and the requirements of section 7. Section 9 of the Act prohibits the take of endangered wildlife. “Take” is defined by the Act as to harass, harm, pursue, hunt, shoot, wound, trap, capture, or collect, or attempt to engage in any such conduct. Service regulations (50 CFR 17.31) generally extend the prohibition of take to threatened wildlife. Section 7 of the Act outlines the procedures for Federal interagency cooperation to conserve federally listed species and protect designated critical habitats. It mandates all Federal agencies to determine how to use their existing authorities to further the purposes of the Act to aid in recovering listed species. It also states that Federal agencies will, in consultation with the Service, ensure that any action they authorize, fund, or carry out is not likely to jeopardize the continued existence of a listed species or result in the destruction or adverse modification of designated critical habitat. Section 7 of the Act does not affect activities undertaken on private lands unless they are authorized, funded, or carried out by a Federal agency.

For purposes of section 9 of the Act, a population designated as experimental is treated as threatened regardless of the species' designation elsewhere in its range. Through section 4(d) of the Act, threatened designation allows us greater discretion in devising management programs and special regulations for such a population. Section 4(d) of the Act allows us to adopt whatever regulations are necessary to provide for the conservation of a threatened species. In these situations, the general regulations that extend most section 9 prohibitions to threatened species do not apply to that species, and the special 4(d) rule contains the prohibitions and exemptions necessary and appropriate to conserve that species. Regulations issued under section 4(d) for NEPs are usually more compatible with routine human activities in the reintroduction area.

For the purposes of section 7 of the Act, we treat NEPs as threatened species when the NEP is located within a National Wildlife Refuge or National Park, and section 7(a)(1) and the consultation requirements of section 7(a)(2) of the Act apply. Section 7(a)(1) requires all Federal agencies to use their authorities to conserve listed species. Section 7(a)(2) requires that Federal agencies, in consultation with the Service, ensure any actions they authorize, fund, or carry out are not likely to jeopardize the continued existence of a listed species or adversely modify its critical habitat. When NEPs are located outside a National Wildlife Refuge or National Park, we treat the population as proposed for listing and only two provisions of section 7 would apply—section 7(a)(1) and section 7(a)(4). In these instances, NEPs provide additional flexibility because Federal agencies are not required to consult with us under section 7(a)(2). Section 7(a)(4) requires Federal agencies to confer with the Service on actions that are likely to jeopardize the continued existence of a proposed species. The results of a conference are advisory in nature and do not restrict agencies from carrying out, funding, or authorizing activities.

Individuals used to establish an experimental population may come from a donor population, provided their removal will not create adverse impacts upon the parent population, and provided appropriate permits are issued in accordance with our regulations (50 CFR 17.22) prior to their removal.

In order to establish an experimental population, we must issue a proposed regulation and consider public comments on the proposed rule prior to publishing a final regulation. In addition, we must comply with NEPA. Also, our regulations require that, to the extent practicable, a regulation issued under section 10(j) of the Act represents an agreement between the Service, the affected State and Federal agencies, and persons holding any interest in land that may be affected by the establishment of the experimental population (see 50 CFR § 17.81(d)).

We have not yet identified possible alternatives for accomplishing our recovery goals in Arizona and New Mexico and we do not know what the preferred alternative (the proposed action) or other alternatives might entail. Once identified, the alternatives will be carried forward into detailed analyses pursuant to NEPA.

Any process to release falcons as “experimental” will require that we: (1) Compile and analyze all new biological information on the species; (2) review and update the administrative record; (3) review the overall approach to the conservation and recovery of the falcon in the United States; (4) review available information that pertains to the habitat requirements of this species, including material received during the public comment period from this notice and comments on the listing; (5) review actions identified in the northern aplomado falcon recovery plan (Service 1990); (6) determine what areas, if any, might require special management or areas that should be excluded from the experimental population area; (7) write a draft environmental assessment and present alternatives to the public for review and comment; (8) incorporate public input and use current knowledge of falcon habitat use and availability to precisely map a proposed experimental population area; (9) present this proposal in a proposed rule for publication in the Federal Register and solicit comments from the public; and (10) finalize the environmental assessment and the rule designating an experimental population and identifying an experimental population area, and authorizing the release of falcons as experimental in New Mexico and Arizona, or adopt the no action alternative and not permit the release of northern aplomado falcons as experimental in these areas.

We are the lead Federal agency for compliance with NEPA for this action. The draft environmental assessment will incorporate public concerns in the analysis of impacts associated with the proposed action and associated project alternatives. The draft environmental assessment will be sent out for a minimum 30-day public review period, during which time comments will be solicited on the adequacy of the document. The final environmental document (e.g., environmental assessment or environmental impact statement) will address the comments we receive during public review and will be furnished to all who commented on the draft environmental assessment, and made available to anyone who requests a copy. This notice is provided pursuant to regulations for implementing NEPA.

Public Comments Solicited

The Service wishes to ensure that any proposed rulemaking to designate an experimental population for the aplomado falcon we might issue and the draft environmental assessment on the proposed action effectively evaluate all potential issues associated with this action. Therefore, we request comments or recommendations concerning reasons why any particular area should or should not be included in an experimental population designation, information on the distribution and quality of habitat for the northern aplomado falcons, land or water use practices and current or planned activities in areas that may be affected by a designation of an experimental population, and any other pertinent issues of concern. We seek comment from the public, as well as Tribal, local, State, and Federal government agencies, the scientific community, industry, or any other interested party. To promulgate a proposed rule to establish an experimental population for the aplomado falcon and to determine whether to prepare a finding of no significant impact or an environmental impact statement, we will take into consideration all comments and any additional information received.

We will give separate notice of the availability of the draft environmental assessment, when completed, so that interested and affected people may comment on the draft and have input into the final decision. The draft environmental assessment will undergo a minimum 30-day public comment period.

References

Bogusch, E.R. 1952. Brush invasion in the Rio Grande plain of Texas. Texas J. Science. Pp. 85-91.

Cade, T.J., J.P. Jenny, and B.J. Walton. 1991. Efforts to restore the Northern Aplomado Falcon Falco femoralis septentrionalis by captive breeding and reintroduction. Dodo, J. Jersey Wildl. Preserv. Trust 27:71-81.

Hastings, J.R., and R.M. Turner. 1965. The changing mile: An ecological study of vegetation change with time in the lower mile of an arid and semiarid region. Univ. of Arizona Press, Tucson, Arizona. 317pp.

Hector, D.P. 1981. The habitat, diet, and foraging behavior of the aplomado flacon, (Falcon femoralis)(Temminck). M.S. Thesis, Oklahoma State University, Stillwater, Oklahoma. 189 pp.

Keddy-Hector, D.P. 2000. Aplomado Falcon (Falcon femoralis). In The Birds of North America, No. 549 (A. Poole and F. Gill, eds.). The Birds of North America, Inc., Philadelphia, PA.

Kiff, L.F., D.B. Peakall, and D.P. Hector. 1980. Eggshell thinning and organchloride residues in the bat and aplomado falcons in Mexico. Proceedings International Ornithological Congress. 17:949-952.

Phillips, A., J. Marshall, and G. Monson. 1964. The birds of Arizona. Univ. Arizona Press, Tucson.

Dated: January 15, 2003.
Craig Manson,
Assistant Secretary for Fish and Wildlife and Parks.

[FR Doc. 03-1943 Filed 1-23-03; 4:07 pm]

BILLING CODE 4310-55-P